DEPARTMENT OF THE TREASURY

Community Development Financial Institutions Fund

Notice of Information Collection and Request for Public Comment

ACTION: Notice and request for public comment.

SUMMARY: The Department of the Treasury, as part of its continuing effort to reduce paperwork and respondent burden, invites the general public and other Federal agencies to take this opportunity to comment on proposed and/or continuing information collections, as required by the Paperwork Reduction Act of 1995, Public Law 104-13. Currently, the Community Development Financial Institutions Fund (CDFI Fund), U.S. Department of the Treasury, is soliciting comments concerning the Community Development Financial Institution CDFI Program (CDFI Program) and Native American CDFI Assistance Program (NACA Program) Disability Funds Financial Assistance Application, which will be submitted through the Awards Management Information System (AMIS).

DATES: Written comments must be received on or before July 24, 2018 to be assured of consideration.

ADDRESSES: Submit your comments via email to Amber Bell, Program Manager for the CDFI Program and Native Initiatives, CDFI Fund, at cdfihelp@cdfi.treas.gov.

FOR FURTHER INFORMATION CONTACT: Amber Bell, Program Manager for the CDFI Program and Native Initiatives, Community Development Financial Institutions Fund, U.S. Department of the Treasury, 1500 Pennsylvania Ave. NW, Washington, DC 20220 or by phone at (202) 653-0300. Other information regarding the CDFI Fund and its programs may be obtained through the CDFI Fund's website at http://www.cdfifund.gov.

SUPPLEMENTARY INFORMATION:

Title: Disability Funds—Financial Assistance Application.

OMB Number: 1559-0048.

Type of Review: Regular Review.

Abstract: The Consolidated Appropriations Act of 2017 (Act; Pub. L. 115-31) provided the CDFI Fund up to $3 million to provide “technical and financial assistance to CDFIs that fund projects to help individuals with disabilities.” The CDFI Fund created the Disability Funds-Financial Assistance (DF-FA) Application in response to this Congressional directive. The Consolidated Appropriations Act of 2018 (Pub. L. 115-141) provided an additional $3 million for the CDFI Fund to further its investment in CDFIs that serve individuals with disabilities.

The CDFI Fund intends to provide DF-FA awards to certified CDFIs with a track record of serving individuals with disabilities. For purposes of the DF-FA awards selection process, Disability will mean a person with a physical or mental impairment that substantially limits one or more major life activities; a person who has a history or record of such an impairment; or a person who is perceived by others as having such an impairment, as defined by the Americans with Disabilities Act (ADA). Applicants selected to receive DF-FA awards will have a demonstrated track record of serving individuals with disabilities, specifically by providing financial products and services and/or development services that have a primary purpose of benefiting individuals with disabilities. Additionally, successful applicants will demonstrate that they will increase and/or expand their financial products and services, and/or development services, to address the challenges of individuals with disabilities, in areas such as: Asset development; affordable, accessible, and safe housing; employment opportunities; and access to assistive products and services that support health and community living. The CDFI Fund will administer DF-FA awards in conjunction with the annual Community Development Financial Institutions Program (CDFI Program) and Native American CDFI Assistance Program (NACA Program) application process. The DF-FA application can be found on the CDFI Fund website at www.cdfifund.gov.

Affected Public: Businesses or other for-profit institutions, non-profit entities, and State, local and Tribal entities participating in CDFI Fund programs.

Estimated Number of Respondents: 30.

Estimated Annual Time per Respondent: 12.

Estimated Total Annual Burden Hours: 360.

Request for Comments: Comments submitted in response to this notice will be summarized and/or included in the request for OMB approval. All comments will become a matter of public record. Comments are invited on all aspects of the information collections, but commentators may wish to focus particular attention on: (a) The cost for CDFIs to operate and maintain the services/systems required to provide the required information; (b) ways to enhance the quality, utility, and clarity of the information to be collected; (c) whether the collection of information is necessary for the proper evaluation of the effectiveness and impact of the CDFI Fund's programs, including whether the information has practical utility; (d) the accuracy of the CDFI Fund's estimate of the burden of the collection of information, and; (e) ways to minimize the burden of the collection of information including through the use of technology.

Authority: 12 U.S.C. 4707 et seq.; Pub. L. 115-31 Sec 6; 12 CFR part 1805.

Mary Ann Donovan,
Director, Community Development Financial Institutions Fund.

[FR Doc. 2018-11304 Filed 5-24-18; 8:45 am]

BILLING CODE 4810-70-P